NUCLEAR REGULATORY COMMISSION

[NRC-2018-0159]

Interim Staff Guidance for Decommissioning Funding Plans for Materials Licensees

AGENCY: Nuclear Regulatory Commission.

ACTION: Draft interim staff guidance; request for comment.

SUMMARY: The U.S. Nuclear Regulatory Commission (NRC) is soliciting public comment on its draft Interim Staff Guidance (ISG) on Decommissioning Funding Plans (DFP) for materials licensees. The purpose of this ISG is to provide the NRC staff and the industry with guidance based on recent developments and lessons learned in financial assurance since the last update to NUREG-1757, Vol. 3, Rev. 1, “Consolidated Decommissioning Guidance Financial Assurance, Recordkeeping, and Timeliness” (NUREG-1757, Vol. 3).

DATES: Submit comments by September 17, 2018. Comments received after this date will be considered if it is practical to do so, but the Commission is able to ensure consideration only for comments received before this date.

ADDRESSES: You may submit comments by any of the following methods:

• Federal Rulemaking Website: Go to http://www.regulations.gov and search for Docket ID NRC-2018-0159. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Kenneth Kline, Office of Nuclear Material Safety and Safeguards, U.S. Nuclear Regulatory Commission, Washington DC 20555-0001; telephone: 301-415-7075, email: Kenneth.Kline@nrc.gov.

SUPPLEMENTARY INFORMATION:

I. Obtaining Information and Submitting Comments

A. Obtaining Information

Please refer to Docket ID NRC-2018-0159 when contacting the NRC about the availability of information for this action. You may obtain publicly-available information related to this action by any of the following methods:

• Federal Rulemaking Website: Go to http://www.regulations.gov and search for Docket ID NRC-2018-0159.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ISG for Decommissioning Funding Plans for Materials Licensees is available in ADAMS under Accession No. ML18163A087.

• NRC's PDR: You may examine and purchase copies of public documents at the NRC's PDR, Room O1-F21, One White Flint North, 11555 Rockville Pike, Rockville, Maryland 20852.

B. Submitting Comments

Please include Docket ID NRC-2018-0159 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Since 1988, NRC licensees have been required to provide decommissioning financial assurance. The NRC published its “Decommissioning Planning Rule” in the Federal Register on June 17, 2011 (76 FR 35512). The rule became effective on December 17, 2012. The rule's purpose is to minimize the likelihood of new “legacy sites,” those sites owned or controlled by licensees with insufficient resources to complete decommissioning. Successful completion of decommissioning is a prerequisite to the NRC terminating the license.

The NRC's radioactive materials licensing regulations, part 30 of Title 10 of the Code of Federal Regulations (10 CFR), “Rules of General Applicability to Domestic Licensing of Byproduct Material”; 10 CFR part 40, “Domestic Licensing of Source Material”; and 10 CFR part 70, “Domestic Licensing of Special Nuclear Material,” require NRC licensees to provide adequate financial assurance for all decommissioning activities.¹ The NRC staff utilizes NUREG-1757, Vol. 3 (ADAMS Accession No. ML12048A683), as guidance to evaluate DFPs submitted by 10 CFR parts 30, 40 and 70 licensees. The NRC's Regulatory Guide (RG) 4.22, “Decommissioning Planning During Operations” (ADAMS Accession No. ML12158A361), provides guidance to licensees for use during licensed operations to minimize radiological contamination, including radiological subsurface contamination, and to properly retain survey results. For those licensees having or likely to have significant residual radioactivity, RG 4.22 provides guidance on arranging for sufficient funding to complete decommissioning, thereby allowing the NRC to terminate the license.

¹ The specific NRC regulations are 10 CFR 30.35, 10 CFR 40.36, and 10 CFR 70.25, each entitled “Financial Assurance and Recordkeeping for Decommissioning.”

The purpose of this ISG is to provide NRC staff and industry with guidance based on developments and lessons learned in financial assurance since the last update to NUREG-1757, Vol. 3. The ISG covers decommissioning cost estimates describing current facility conditions, evaluating events since the last DFP approval, and updates for certain financial instruments.

Dated at Rockville, Maryland, this 26th day of July, 2018.
For the Nuclear Regulatory Commission.
John R. Tappert,
Director, Division of Decommissioning, Uranium Recovery and Waste Programs, Office of Nuclear Material Safety and Safeguards.

[FR Doc. 2018-16392 Filed 7-31-18; 8:45 am]

BILLING CODE 7590-01-P